DEPARTMENT OF JUSTICE

Notice of Lodging of Consent Decree Under the Comprehensive Environmental Response, Compensation and Liability Act

In accordance with 28 U.S.C. 50.7 and Section 122 of the Comprehensive Environmental Response, Compensation and Liability Act (“CERCLA”), 42 U.S.C. 9622, notice is hereby given that on July 14, 2004, a proposed consent decree in the action of United States v. 3M Company, et al., C.A. No. 2:04-cv-3331 (HAA), was lodged with the United States District Court for the District of New Jersey. The Consent Decree resolves the claims of the United States against the defendants in this action for implementation of the fill area remedy (“Operable Unit Two”) at the Scientific Chemical Processing (“SCP”)—Carlstadt Superfund Site located in Carlstadt, New Jersey (“Site”) and for reimbursement of past response costs relating to the Site.

The Complaint in this action alleges that the defendants are liable to the United States under Sections 106 and 107 of the Comprehensive Environmental Response, Compensation and Liability Act (“CERCLA”), 42 U.S.C. 9606, 9607, as generators and/or transporters of materials containing hazardous substances that were disposed of at the Site. The defendants in this action are:

3M Company; Air Products and Chemicals, Inc.; Akzo Nobel Coatings, Inc.; Altje, Inc.; American Cyanamid—Lederle Labs—Shulton, Inc.; American Standard Companies; Ashland Inc.; ATOFINA Chemicals, Inc.; BASF Corporation; Bayer Chemicals Corporation; Bee Chemical Company; Benjamin Moore & Co.; Ber Mar Manufacturing Corp.; Borden Chemical, Inc.; Bristol-Myers Squibb Company; Browning-Ferris Industries of New Jersey; Chemcoat Inc.; Chemical Pollution Control, Inc. of NY; Ciba Specialty Chemicals Corporation; CNA Holdings, Inc.; Congoleum Corporation; Crown Beverage Packaging Company, Inc.; Cycle Chem, Inc.; Dri Print Foils, Inc.; DuPont Company; Exxon Mobil Corporation; ExxonMobile Oil Corporation; General Electric Company; General Motors Corporation; Hoffmann-La Roche, Inc.; Honeywell International Inc.; ISP Environmental Services Inc.; John L. Armitage & Co.; Johnson & Johnson; Kirker Enterprises, Inc.; L.E. Carpenter & Company; Lucent Technologies Inc.; Mack Trucks, Inc.; Magid Corp.; Mallinckrodt Baker, Inc.; manor Care of American, Inc.; Manor Care Health Services, Inc.; Marisol, Inc.; Merck & Co., Inc.; Monroe Chemical, Inc.; Nepera, Inc.; New England Laminates Co.; Inc.; Northrop Grumman Systems Corporation; Occidental Chemical Corporation; PAXAR Corporation; Permacel, Inc.; Pfizer Inc.; Pharmacia Corporation; Portfolio One, Inc.; Revlon Consumer Products Corporation; Roche Vitamins Inc.; Rohm and Haas Company; Schenectady International, Inc.; Seagrave Coatings Corp. (NJ); Siegfried (USA), Inc.; Simon Wrecking Company, Inc.; SmithKline Beecham Corporation; Technical Coatings Co.; The Continental Group Inc.; The Dow Chemical Company; The Warner Lambert Co., LLC; Union Carbide Corporation; United Technologies Corporation; and VIACOM Inc.

Under the proposed Consent Decree, the settling defendants will reimburse to EPA $1,149,902 of its past costs at this Site, plus interest from January 7, 2003, and will perform the Operable Unit Two remedial action. The Operable Unit Two remedial action includes the treatment and stabilization of a hot spot area, the installation of a landfill cap over the fill area, improvement of the existing groundwater recovery system, and institutional controls. The cost of the performance of the Operable Unit Two remedial action will be financed in part from proceeds of a previous settlement with de minimis potentially responsible parties relating to the Site and in part by the defendants participating in this Consent Decree.

The Department of Justice will receive, for a period of thirty (30) days from the date of this publication, written comments relating to the proposed Consent Decree. Comments should be addressed to the Assistant Attorney General, Environment and Natural Resources Division, P.O. Box 7611, U.S. Department of Justice, Washington, DC 20044-7611, and should refer to United States v. 3M Company, et al., DOJ Ref. #09-11-12-495/1. In addition, because the Consent Decree includes a covenant not to sue the settling defendants under Section 7003 of the Resource Conservation and Recovery Act, 42 U.S.C. 6973, the United States will provide an opportunity for a public meeting in the affected area, if requested within the thirty (30) day public comment period. See 42 U.S.C. 6973(d).

The proposed Consent Decree may be examined at the Office of the United States Attorney for the District of New Jersey, 970 Broad Street, Room 400, Newark, New Jersey 07102, and at the U.S. Environmental Protection Agency, Region II, office, 290 Broadway, New York, New York 10007. During the public comment period, the Consent Decree may also be examined on the following Department of Justice Web site: http://www.usdoj.gov/enrd/open.html. A copy of the Consent Decree, with or without appendices, may also be obtained by mail from the Consent Decree Library, PO Box 7611, Washington, DC 20044-7611, or by faxing or e-mailing a request to Tonia Fleetwood (tonia.fleetwood@usdoj.gov), fax no. (202) 514-0097, phone confirmation number (202) 514-1547. In requesting a copy from the Consent Decree Library, please enclose a check in the amount of $29.75 (25 cents per page reproduction costs) for the Consent Decree, without appendices, or $107.00 (25 cents per page reproduction costs) for the Consent Decree, with appendices, payable to the U.S. Treasury.

Ronald G. Gluck,
Assistant Section Chief, Environmental Enforcement Section, Environment and Natural Resources Division.

[FR Doc. 04-18399 Filed 8-10-04; 8:45 am]

BILLING CODE 4410-15-M